DEPARTMENT OF TRANSPORTATION

Federal Aviation Administration

14 CFR Part 39

[Docket No. FAA-2012-0630; Directorate Identifier 2011-SW-010-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France EC130B4 helicopters. This proposed AD is prompted by an in-flight cracking and failure of a center windscreen. The proposed actions are intended to detect a crack in the blending radii of the center windscreen to prevent failure of the windscreen, injury to the flight crew, and subsequent loss of control of the helicopter.

DATES: We must receive comments on this proposed AD by August 17, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052, telephone (972) 641-0000 or (800) 232-0323, fax (972) 641-3775, or at http://www.eurocopter.com/techpub. You may review a copy of the referenced service information at the FAA, Office of the Regional Counsel, Southwest Region, 2601 Meacham Blvd., Room 663, Fort Worth, Texas 76137.

FOR FURTHER INFORMATION CONTACT: Jim Grigg, Manager, Safety Management Group, Rotorcraft Directorate, FAA, 2601 Meacham Blvd., Fort Worth, TX 76137; telephone (817) 222-5110; email jim.grigg@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued AD 2010-0258, dated December 6, 2010, (AD 2010-0258) to correct an unsafe condition for the Eurocopter France EC130B4 helicopters. EASA states that it received reports that center windscreen panels failed during flights. Investigations revealed this failure was caused by a crack that started in the blending radius between the lower and upper sections of the windscreen. It states that this condition, if not detected and corrected, could result in serious injury of the helicopter occupants. Consequently, EASA issued Emergency AD 2007-0219-E, dated August 24, 2007, (AD 2007-0219-E), requiring a pre-flight inspection of the center windscreen, repair or replacement of a cracked windscreen (with ones of the same design), and an airspeed limitation when in-flight distortion of the windscreen had been observed. On April 8, 2009, EASA approved a modification (MOD 073590) for the EC130B4 which incorporates a newly designed center windscreen panel, part number (P/N) 350A25-9045-20, to “eliminate the possibility of centre windshield cracks thus providing an alternative terminating action for the preflight inspections.”

FAA's Determination

This helicopter model is manufactured in France and is type certificated for operation in the United States under the provisions of 14 CFR 21.29 and the applicable bilateral agreement. Pursuant to the applicable bilateral agreement, EASA has kept the FAA informed of the situation described above. The FAA has examined the findings of EASA, reviewed all available information, and determined that AD action is necessary for products of this type design that are certificated for operation in the United States.

We are proposing this AD because we evaluated all known relevant information and determined that an unsafe condition exists and is likely to exist or develop on other products of this same type design.

Related Service Information

We reviewed Eurocopter Emergency Alert Service Bulletin (ASB) No. 05A005 Revision 2, dated November 22, 2010. The ASB specifies:

• Performing a visual check of the center windscreen before each flight.

• Replacing any center windscreen before resuming flight if a crack is detected.

• If in-flight distortion is found, immediately restricting airspeed to 70 knots or below, and

○ If a crack is found, before next flight, replacing the windscreen per Eurocopter Service Bulletin 56-003, dated November 16, 2010, (SB 56-003), which describes procedures to perform MOD 073590, and

○ If no crack is found, affixing an airspeed limitation label and within 50 flying hours or 15 days, whichever is earlier, replacing the windscreen per MOD 073590.

• That incorporation of MOD 073590 is an alternative to the bulletin, relieving users of the inspection requirements.

EASA has classified this ASB as mandatory and issued AD 2010-0258 to ensure the continued airworthiness of these helicopters.

Proposed AD Requirements

This proposed AD would require:

• Before each flight, visually checking the center windscreen, closely examining the blending radii between the upper and lower parts of the windscreen. An owner/operator (pilot) may perform the visual check required by this proposed AD and must enter compliance with that paragraph into the helicopter maintenance records in accordance with 14 CFR 43.9(a)(1)-(4) and 91.417(a)(2)(v). A pilot may perform this check because it involves only a visual check for a crack in the center windscreen and can be performed equally well by a pilot or a mechanic.

• If a crack exists in the center windscreen panel, or if the windscreen distorts during flight, replacing the center windscreen panel before further flight.

• Within 12 months of the effective date of the proposed AD, unless accomplished previously, replacing the center windscreen with P/N 350A259045.20. Replacing the center windscreen panel with P/N 350A259045.20 would constitute terminating action for the inspection requirements of this proposed AD. The proposed actions would be required to be accomplished by following specific portions of the ASB described previously.

Differences Between This Proposed AD and the EASA AD

The EASA AD imposes flight restrictions and replacing the windscreen within 50 flight hours or 15 days, whichever occurs first, if distortion of the windscreen is detected in-flight. The proposed AD would mandate replacing the windscreen before further flight if distortion occurs during flight. In addition, the proposed AD would mandate MOD 073590 and replacing the affected windscreen with an airworthy windscreen, P/N 350A25-9045-20, within 12 months.

Costs of Compliance

We estimate that this proposed AD would affect 87 helicopters of U.S. registry and that labor costs would average $85 per work-hour. Therefore, we estimate the following costs to comply with this AD:

• The check of the center windscreen before each flight would take about 15 minutes for a labor cost of $21.25 per inspection. No parts would be needed, so that the total cost for the U.S. 87-helicopter fleet would be about $1,849 per inspection.

• Replacing the center windscreen would require about 20 work-hours for a labor cost of $1,700 per helicopter. Parts would cost $6,037 for a total cost per helicopter of $7,737.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Eurocopter France: Docket No. FAA-2012-0630; Directorate Identifier 2011-SW-010-AD.

(a) Applicability

This AD applies to Eurocopter France EC130B4 helicopters with center windscreen panel (center windscreen), part number (P/N) 350A25-9004-00, 350A25-9025-00, or 350A25-9041-20, certificated in any category.

(b) Unsafe Condition

This AD defines the unsafe condition as a crack in the blending radii of the center windscreen, which could lead to failure of the center windscreen, injury to the flight crew, and subsequent loss of control of the helicopter.

(c) Compliance

You are responsible for performing each action required by this AD within the specified compliance time unless it has already been accomplished prior to that time.

(d) Required Actions

(1) Until the center windscreen is replaced with center windscreen P/N 350A25-9045-20, before each flight, visually check the center windscreen for a crack in the area of the blending radii where the front-lower part of the center windscreen joins the front fuselage as depicted in Figure 1 of this AD. This visual check may be performed by the owner/operator (pilot) holding at least a private pilot certificate, and must be entered into the aircraft records showing compliance with the AD in accordance with Title 14 Code of Federal Regulations (14 CFR) 43.9 (a)(1)-(4) and 14 CFR 91.417(a)(2)(v). The record must be maintained as required by 14 CFR 91.417, 121.380, or 135.439.

(2) If there is a crack or if a pilot indicates that the center windscreen distorted during flight, before further flight, replace the center windscreen with an airworthy center windscreen, P/N 350A25-9045-20, in accordance with the Accomplishment Instructions, paragraphs 2.B.2.b. through 2.B.2.b.4. of Eurocopter Service Bulletin No. 56-003, Revision 0, dated November 16, 2010.

(3) Within 12 months, replace the center windscreen with an airworthy center windscreen, P/N 350A25-9045-20, in accordance with the instructions contained in paragraph (d)(2) of this AD.

(4) Replacing the center windscreen with center windscreen, P/N 350A25-9045-20, constitutes terminating action for the requirements of this AD.

(e) Special Flight Permit

Special flight permits may be issued in accordance with 14 CFR §§ 21.197 and 21.199 to operate the helicopter to a location where the requirements of this AD can be accomplished, provided that:

(1) No passengers are onboard;

(2) The time to fly to the location does not exceed 10 hours time-in-service; and

(3) The airspeed does not exceed 70 knots indicated air speed (KIAS).

(f) Alternative Methods of Compliance (AMOC)

(1) The Manager, Safety Management Group, FAA, may approve AMOCs for this AD. Send your proposal to: Jim Grigg, Manager, Safety Management Group, Rotorcraft Directorate, FAA, 2601 Meacham Blvd., Fort Worth, TX 76137; telephone (817) 222-5110; email jim.grigg@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) For service information identified in this AD, contact American Eurocopter Corporation, 2701 N. Forum Drive, Grand Prairie, TX 75052, telephone (972) 641-0000 or (800) 232-0323, fax (972) 641-3775, or at http://www.eurocopter.com/techpub. You may review a copy of the service information at the FAA, Office of the Regional Counsel, Southwest Region, 2601 Meacham Blvd., Room 663, Fort Worth, Texas 76137.

(2) The subject of this AD is addressed in the European Aviation Safety Agency (EASA) AD No. 2010-0258, dated December 6, 2010.

(h) Subject

Joint Aircraft Service Component (JASC) Code: 5600, Window/Windshield System.

Issued in Fort Worth, Texas, on June 8, 2012.
Kim Smith,
Manager, Rotorcraft Directorate, Aircraft Certification Service.

[FR Doc. 2012-14799 Filed 6-15-12; 8:45 am]

BILLING CODE 4910-13-P